DEPARTMENT OF TRANSPORTATION

Federal Aviation Administration

14 CFR Part 39

[Docket No. FAA-2007-28956; Directorate Identifier 2007-CE-068-AD]

RIN 2120-AA64

Airworthiness Directives; Cessna Aircraft Company Models 525, 525A, and 525B Airplanes

AGENCY: Federal Aviation Administration (FAA), Department of Transportation (DOT).

ACTION: Notice of proposed rulemaking (NPRM).

SUMMARY: We propose to adopt a new airworthiness directive (AD) for certain Cessna Aircraft Company (Cessna) Models 525, 525A, and 525B airplanes. This proposed AD would require you to inspect the lower wing skin structure, forward wing spar, lower fuselage skin, fairings, and the external fairing frames for corrosion; repair any damage found; apply a corrosion inhibitive sealant to the fuselage fairings before reinstalling; and disable the cockpit mounted pilot relief tube. This proposed AD results from leaking of the cockpit mounted pilot relief tube, which caused corrosion of the airplane structure. We are proposing this AD to detect and correct any damage from corrosion of the airplane structure. Corrosion of the airplane structure could cause structural degradation and lead to structural failure of the airplane with consequent loss of control.

DATES: We must receive comments on this proposed AD by December 26, 2007.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Cessna Aircraft Company, Citation Marketing Division, P.O. 7706, Wichita, Kansas 67277; telephone: 1-800-835-4090; fax: 1-800-517-8500.

FOR FURTHER INFORMATION CONTACT: T.N. Baktha, Aerospace Engineer, 1801 Airport Road, Room 100, Wichita, Kansas 67209; telephone: (316) 946-4155; fax: (316) 946-4107.

SUPPLEMENTARY INFORMATION:

Comments Invited

We invite you to send any written relevant data, views, or arguments regarding this proposed AD. Send your comments to an address listed under the ADDRESSES section. Include the docket number, “FAA-2007-28956; Directorate Identifier 2007-CE-068-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

Cessna reported wing skin corrosion in a Model 525 and belly skin corrosion in several Model 525A airplanes. Cessna received information on more than 18 cases of significant corrosion. Cessna also received information on 42 cases of some corrosion on Models 525, 525A, and 525B airplanes. Corrosive fluids leaked after use of the cockpit mounted pilot relief tube and caused corrosion of the fuselage skins, fairings, fairing support structure, and wing structure.

This condition, if not corrected, could result in structural degradation and lead to structural failure of the airplane with consequent loss of control.

Relevant Service Information

We have reviewed the following Cessna service information for this AD:

• Service Bulletin SB525-53-20, dated April 30, 2007;

• Service Bulletin SB525A-53-01, dated April 30, 2007;

• Service Bulletin SB525B-53-01, dated April 30, 2007;

• Alert Service Letter ASL525-53-04, Revision 2, dated August 19, 2007;

• Alert Service Letter ASL525A-53-05, Revision 2, dated July 25, 2007; and

• Alert Service Letter ASL525B-53-02, Revision 2, dated July 25, 2007.

The service information describes procedures for the following actions:

• Inspecting the lower wing skin structure, forward wing spars, lower fuselage skin, fairings, and external fairing frames for corrosion;

• Repairing corrosion by blending within specified limits or by contacting the manufacturer to obtain an FAA-approved repair scheme if corrosion damage can not be repaired within the limits specified;

• Doing a surface eddy current inspection or a dye-penetrant inspection on the repaired blended areas for cracks, and contacting the manufacturer to obtain an FAA-approved repair scheme if cracks are found;

• Applying a corrosion inhibitive sealant to the fuselage fairings before reinstalling; and

• Disabling the cockpit mounted relief tube.

FAA's Determination and Requirements of the Proposed AD

We are proposing this AD because we evaluated all information and determined the unsafe condition described previously is likely to exist or develop on other products of the same type design. This proposed AD would require you to inspect the lower wing skin structure, forward wing spar, lower fuselage skin, fairings, and the external fairing frames for corrosion; repair any damage found; apply a corrosion inhibitive sealant to the fuselage fairings before reinstalling; and disable the cockpit mounted pilot relief tube.

Costs of Compliance

We estimate that this proposed AD would affect 261 airplanes in the U.S. registry.

We estimate the following costs to do the proposed inspection:

Labor cost | Parts cost | Total cost per airplane | Total cost on U.S. operators
80 work-hours × $80 per hour = $6,400 | Not Applicable | $6,400 | $1,670,400

We have no way of determining the number of airplanes that may need repair or further inspection based on the results of the proposed inspection, or the costs associated with such repair or inspection.

We estimate the following costs to do the proposed disabling of the cockpit mounted pilot relief tube:

Labor cost | Parts cost | Total cost per airplane | Total cost on U.S. operators
.5 work-hours × $80 per hour = $40 | Not Applicable | $40 | $10,440

Cessna will provide warranty credit to the extent specified in Cessna Citation Service Bulletin SB525-53-20, dated April 30, 2007; Service Bulletin SB525A-53-01, dated April 30, 2007; Service Bulletin SB525B-53-01, dated April 30, 2007; Alert Service Letter ASL525-53-04, Revision 2, dated August 19, 2007; Alert Service Letter ASL525A-53-05, Revision 2, dated July 25, 2007; and Alert Service Letter ASL525B-53-02, Revision 2, dated July 25, 2007.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cessna Aircraft Company: Docket No. FAA-2007-28956; Directorate Identifier 2007-CE-068-AD.

Comments Due Date

(a) We must receive comments on this airworthiness directive (AD) action by December 26, 2007.

Affected ADs

(b) None.

Applicability

(c) This AD applies to the following airplane models and serial numbers that have a cockpit mounted pilot relief tube installed and are certificated in any category:

Models | Serial Nos.
(1) 525 | 0001 through 0637.
(2) 525A | 0001 through 0347.
(3) 525B | 0001 through 0152.

Unsafe Condition

(d) This AD results from leaking of the pilot relief tube, which caused corrosion of the airplane structure. We are issuing this AD to detect and correct any damage from corrosion on the airplane structure. Corrosion of the airplane structure could cause structural degradation and lead to structural failure of the airplane with consequent loss of control.

Compliance

(e) To address this problem, you must do the following, unless already done:

Actions | Compliance | Procedures
(1) Inspect the lower wing skin structure, forward wing spars, lower fuselage skin, fairings, and external fairing frames for corrosion | Within the next 90 days after the effective date of this AD | Follow Cessna Citation Alert Service Letter ASL525-53-04, Revision 2, dated August 19, 2007; Alert Service Letter ASL525A-53-05, Revision 2, dated July 25, 2007; or Alert Service Letter ASL525B-53-02, Revision 2, dated July 25, 2007.
(2) If corrosion damage is found in the lower wing skin structure, forward wing spars, lower fuselage skin, fairings, and external fairing frames during the inspection required in paragraph (e)(1) of this AD, repair as specified in the applicable service information. If the corrosion damage can not be repaired within the limits specified in the applicable service information, contact the manufacturer at 1-800-835-4090 for an FAA-approved repair scheme and incorporate this repair | Before further flight after the inspection required in paragraph (e)(1) of this AD | Follow Cessna Citation Alert Service Letter ASL525-53-04, Revision 2, dated August 19, 2007; Alert Service Letter ASL525A-53-05, Revision 2, dated July 25, 2007; or Alert Service Letter ASL525B-53-02, Revision 2, dated July 25, 2007.
(3) If corrosion on the lower wing skin structure, forward wing spars, and lower fuselage skin was repaired by blending within the limits specified in the service information, do a surface eddy current inspection or a dye-penetrant inspection for cracks | Before further flight after the repair by blending was done as specified in paragraph (e)(2) of this AD | Follow Cessna Citation Alert Service Letter ASL525-53-04, Revision 2, dated August 19, 2007; Alert Service Letter ASL525A-53-05, Revision 2, dated July 25, 2007; or Alert Service Letter ASL525B-53-02, Revision 2, dated July 25, 2007.
(4) If cracks are found during the surface eddy current inspection or the dye-penetrant inspection required in paragraph (e)(3) of this AD, contact the manufacturer for an FAA-approved repair scheme and incorporate this repair | Before further flight after the inspection required in paragraph (e)(3) of this AD | Contact Cessna Aircraft Company, Citation Customer Support at 1-800-835-4090.
(5) Install the fuselage fairings and apply corrosion inhibitive sealant | Before further flight after the inspection required in paragraph (e)(1) of this AD if no corrosion was found; or before further flight after doing the repairs and inspections required in paragraphs (e)(2), (e)(3), and (e)(4) of this AD if corrosion or cracks were found | Follow Cessna Citation Alert Service Letter ASL525-53-04, Revision 2, dated August 19, 2007; Alert Service Letter ASL525A-53-05, Revision 2, dated July 25, 2007; or Alert Service Letter ASL525B-53-02, Revision 2, dated July 25, 2007.
(6) Determine the type of installation of the cockpit mounted pilot relief tube and disable the relief tube | Within the next 90 days after the effective date of this AD | Cessna Citation Service Bulletin SB525-53-20, dated April 30, 2007; Service Bulletin SB525A-53-01, dated April 30, 2007; or Service Bulletin SB525B-53-01, dated April 30, 2007.

Alternative Methods of Compliance (AMOCs)

(f) The Manager, Wichita Aircraft Certification Office (ACO), FAA, has the authority to approve AMOCs for this AD, if requested using the procedures found in 14 CFR 39.19. Send information to ATTN: T.N. Baktha, Wichita ACO, Aerospace Engineer, 1801 Airport Road, Room 100, Wichita, Kansas 67209; telephone: (316) 946-4155; fax: (316) 946-4107. Before using any approved AMOC on any airplane to which the AMOC applies, notify your appropriate principal inspector (PI) in the FAA Flight Standards District Office (FSDO), or lacking a PI, your local FSDO.

Related Information

(g) To get copies of the service information referenced in this AD, contact Cessna Aircraft Company, Citation Marketing Division, P.O. 7706, Wichita, Kansas 67277; telephone: 1-800-835-4090; fax: 1-800-517-8500. To view the AD docket, go to U.S. Department of Transportation, Docket Operations, M-30, West Building Ground Floor, Room W12-140, 1200 New Jersey Avenue, SE., Washington, DC 20590, or on the Internet at http://www.regulations.gov. The docket number is Docket No. FAA-2007-28956; Directorate Identifier 2007-CE-068-AD.

Issued in Kansas City, Missouri, on October 22, 2007.
James E. Jackson,
Acting Manager, Small Airplane Directorate, Aircraft Certification Service.

[FR Doc. E7-21127 Filed 10-25-07; 8:45 am]

BILLING CODE 4910-13-P